DEPARTMENT OF HOUSING AND URBAN DEVELOPMENT

[Docket No. FR-6064-N-01]

Notice of Extension of Time for Completion of Required Manufacturer Corrections

AGENCY: Office of the Assistant Secretary for Housing—Federal Housing Commissioner, Department of Housing and Urban Development (HUD).

ACTION: Notice of an extension of time.

SUMMARY: This notice advises the public of a request for extension of completion of a plan for notification and correction of certain manufactured homes built by Clayton Home Building Group (Clayton) that were installed with a certain Tub-Shower Faucet diverter valve manufactured by StoneCrest. The affected diverter model is N8126C. In accordance with Title 24 Code of Federal Regulations 3282.410(c), the Department has reviewed Clayton's request and has determined that Clayton has shown good cause for an extension.

DATES: October 20, 2017.

FOR FURTHER INFORMATION CONTACT: Pamela Beck Danner, Administrator, Office of Manufactured Housing Programs, Department of Housing and Urban Development, 451 Seventh Street SW., Room 9166, Washington, DC 20410, telephone 202-708-6423 (this is not a toll-free number). Persons who have difficulty hearing or speaking may access this number via TTY by calling the toll-free Federal Information Relay Service at 800-877-8339.

SUPPLEMENTARY INFORMATION: The National Manufactured Housing Construction and Safety Standards Act of 1974 (42 U.S.C. 5401-5426) (the Act) authorizes HUD to establish the Federal Manufactured Home Construction and Safety Standards (Construction and Safety Standards), codified in 24 CFR part 3280. Section 615 of the Act (42 U.S.C. 5414) requires that manufacturers of manufactured homes notify purchasers if the manufacturer determines, in good faith, that a defect exists or is likely to exist in more than one home manufactured by the manufacturer and the defect relates to the Construction and Safety Standards or constitutes an imminent safety hazard to the purchaser of the manufactured home. The notification shall also inform purchasers whether the defect is one that the manufacturer will have corrected at no cost or is one that must be corrected at the expense of the purchaser/owner. The manufacturer is responsible to notify purchasers of the defect within a reasonable time after discovering the defect.

HUD's procedural and enforcement provisions at 24 CFR part 3282, subpart I (Subpart I) implement these notification and correction requirements. If a manufacturer determines that it is responsible for providing notification under § 3282.405 and correction under § 3282.406, the manufacturer must prepare a plan for notifying purchasers of the homes containing the defect pursuant to §§ 3282.408 and 3282.409. Notification of purchasers must be accomplished by certified mail or other more expeditious means that provides a receipt. Notification must be provided to each retailer or distributor to whom any manufactured home in the class of homes containing the defect was delivered, to the first purchaser of each manufactured home in the class of manufactured homes containing the defect, and to other persons who are registered owners of a manufactured home in the class of homes containing the defect. The manufacturer must complete the implementation of the plan for notification and correction on or before the deadline approved by the State Administrative Agency or HUD.

Under § 3282.410(c), the manufacturer may request an extension of a previously established deadline if it shows good cause for the extension and the Secretary of HUD decides that the extension is justified and not contrary to the public interest. If the request for extension is approved, § 3282.410(c) requires that HUD publish notice of the extension in the Federal Register.

On May 25, 2017 and revised on June 30, 2017, Clayton notified the Department that it received information that a defect was systematically introduced into homes during the manufacturing process. Specifically, the homes were installed with certain StoneCrest tub-shower diverters, which were subsequently improperly plumbed by using inadequately sized tubing. The installation, under certain operating conditions, created potential for water to leak from the shower head when the diverter was in use. On October 9, 2017, Clayton requested an extension to complete the corrections, since the population of affected homes remains extremely large and the time to make corrections is substantial. This notice advises that HUD finds that Clayton has shown good cause and that the extension is justified and not contrary to the public interest, and granted the requested extension until December 20, 2017. This extension permits Clayton to continue its good faith efforts to correct affected homes at no cost to affected homeowners.

Dated: November 17, 2017.
Teresa B. Payne,
Deputy Administrator, Office of Manufactured Housing Programs.

[FR Doc. 2017-25337 Filed 11-22-17; 8:45 am]

BILLING CODE 4210-67-P